DEPARTMENT OF TRANSPORTATION

National Highway Traffic Safety Administration

[Docket No. NHTSA-2021-0095; Notice 1]

Continental Tire the Americas, LLC, Receipt of Petition for Decision of Inconsequential Noncompliance

AGENCY: National Highway Traffic Safety Administration (NHTSA), Department of Transportation (DOT).

ACTION: Receipt of petition.

SUMMARY: Continental Tire the Americas, LLC, (CTA) has determined that certain Continental motorcycle tires do not fully comply with Federal Motor Vehicle Safety Standard (FMVSS) No. 119, New Pneumatic Tires for Motor Vehicles with a GVWR of More Than 4,536 Kilograms (10,000 Pounds), Specialty Tires, and Tires for Motorcycles. CTA filed a noncompliance report dated December 2, 2021, and subsequently petitioned NHTSA on December 22, 2021, for a decision that the subject noncompliance is inconsequential as it relates to motor vehicle safety. This notice announces receipt of CTA's petition.

DATES: Send comments on or before May 13, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview

CTA has determined that certain Continental motorcycle tires from several different tire lines do not fully comply with the requirements of paragraph S6.5(b) of FMVSS No. 139, New Pneumatic Tires for Motor Vehicles with a GVWR of More Than 4,536 Kilograms (10,000 Pounds) (49 CFR 571.119). CTA filed a noncompliance report dated December 2, 2021, pursuant to 49 CFR part 573, Defect and Noncompliance Responsibility and Reports. CTA subsequently petitioned NHTSA on December 22, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of CTA's petition is published under 49 U.S.C. 30118 and 30120 and does not represent any Agency decision or other exercise of judgment concerning the merits of the petition.

II. Tires Involved

Approximately 14,198 Continental motorcycle tires, size 100/80-16 M/C 50P, manufactured between July 2, 2018, and September 24, 2020, are potentially involved.

III. Noncompliance

CTA explains the noncompliance is that the tires contain unallowed symbols in the tire identification number (TIN) and, therefore, do not meet the requirements of 49 CFR 574.5(f) which results in a noncompliance with paragraph S6.5(b) of FMVSS No. 119. Specifically, the sidewalls of the subject tires are marked with a TIN that may contain one of the following unallowed symbols: G, I, O, Q, S, and Z.

IV. Rule Requirements

Paragraph S6.5(b) of FMVSS No. 119 includes the requirements relevant to this petition. Each tire must be marked on each sidewall with the TIN required by part 574. Specifically, part 574.5(f) states that the only symbols that manufacturers and retreaders are allowed to use in the tire identification number are: A, B, C, D, E, F, H, J, K, L, M, N, P, R, T, U, V, W, X, Y, 1, 2, 3, 4, 5, 6, 7, 8, 9, and 0.

V. Summary of CTA's Petition

The following views and arguments presented in this section, “V. Summary of CTA's Petition,” are the views and arguments provided by CTA. They have not been evaluated by the Agency and do not reflect the views of the Agency.

CTA begins its petition by describing the subject noncompliance and contending that it is inconsequential because the subject tires can still be registered with the unauthorized symbols and can be identified, in the event of a recall.

CTA explains that it uses a third-party company, Computerized Information and Management Services, Inc. (CIMS), who maintains “a database of all CTA's tire registrations for the purpose of identifying purchasers of tires in the event of a future recall.” Further, CTA states that the database can be searched for not only exact matches but also “close matching database entries,” which would mean the database can perform a search “if an `I' was misrepresented as a `1' or vice versa.”

CTA says that in the event of a recall, the subject tires can be identified in the U.S. Tire Manufacturers Association's tire recall search tool ¹ because it uses an algorithm in which the unallowed letter can be used interchangeably with a corresponding allowed number, for example, “G or 6, I or 1, O or 0, etc.”

¹ https://recallinfo.ustires.org/.

CTA states that NHTSA has previously assigned a plant code containing an unauthorized letter to Continental Tire's location in Timisoara, Romania. In that case, the plant code contained the letter “G” which CTA believes “does not cause any issues with tire registration and would not affect the registration search in the case of a recall.” Therefore, CTA argues, the use of the unallowed symbols in the TIN of the subject tires will not affect tire registration or the identification of the TIN in the event of a recall.

CTA says that it has stopped the sale of the subject tires and “has initiated the process of changing tire curing molds to compliant DOT TIN's” and that “the mold change dates will be documented in the CTA specification system for future traceability.” CTA also says that it is taking action to prevent the reoccurrence of the subject noncompliance by modifying its sidewall specification system to include “a control point before a DOT TIN can be released for production.” Additionally, CTA says that it will comply with the new 13 character TIN requirement by including a 3 character assigned plant code and the 6 digit manufacturer code that will be “automatically generated by the specification system, which assumes that only authorized symbols are used.”

CTA concludes its petition by stating that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that CTA no longer controlled at the time it determined that the noncompliance existed. However, any decision on this petition does not relieve equipment distributors and dealers of the prohibitions on the sale, offer for sale, or introduction or delivery for introduction into interstate commerce of the noncompliant tires under their control after CTA notified them that the subject noncompliance existed.

(Authority: 49 U.S.C. 30118, 30120: Delegations of authority at 49 CFR 1.95 and 501.8)

Otto G. Matheke III,
Director, Office of Vehicle Safety Compliance.

[FR Doc. 2022-07827 Filed 4-12-22; 8:45 am]

BILLING CODE 4910-59-P